DEPARTMENT OF DEFENSE

Office of the Secretary; Preparation of the Ground-Based Midcourse Defense Extended Test Range Environmental Impact Statement

ACTION: Notice of Intent.

SUMMARY: In order to meet the requirement to increase the realism of GMD integrated flight testing, MDA proposes to enhance the current test capability that includes the missile launch sites and array of sensors and other test equipment associated with the Ronald Reagan Ballistic Missile Test Site (RTS) at Kwajalein Atoll, the Pacific Missile Range Facility (PMRF) in Hawaii and Vandenberg Air Force Base (AFB) in California. The Department of Defense is publishing this notice to announce the initiation and preparation of the Ground-Based Midcourse Defense (GMD) Extended Test Range (ETR) Environmental Impact Statement (EIS) per Council of Environmental Quality regulations.

Background

The Ground-Based Midcourse Defense (GMD) Joint Program Office of the Missile Defense Agency (MDA) has been directed to conduct more operationally realistic testing of the GMD element of the Ballistic Missile Defense System (BMDS). The BMDS being developed is intended to provide an effective defense to the United States, its deployed forces, and its friends and allies from limited missile attack, during all segments of an attacking missile's flight. The GMD element of BMDS is being developed to protect the entire United States against limited ballistic missile threats during the midcourse segment of an attacking missile's flight. The extension of the GMD test range would increase the realism of GMD testing by using multiple engagement scenarios, trajectories, geometry, distances, speeds of targets and interceptors that closely resemble those in which an operational system would be required to provide an effective defense. The extension of the GMD test range is a separate effort, independent of the test bed that MDA proposes to develop in order to validate the operational concept of GMD. Both the validation of the GMD operational concept test bed and the extension of the GMD test range are intended to be interoperable parts of the multi-parted BMDS test bed, if MDA proceeds with both efforts.

Alternatives

Potential alternatives to be analyzed in the EIS, that may meet some of the enhanced test objectives, may include launching target and/or interceptor missiles from Kodiak Launch Complex (KLC) on Kodiak Island, Alaska, adding interceptor launches from Vandenberg AFB and launching target missiles from aircraft over the broad ocean area. Enhanced GMD testing may also include use of existing ship-borne radars, new land-based radars in southern Alaska and an early-warning radar at Beale AFB. The early-warning radar at Beale AFB may already have been upgraded to support the separate, validation of the GMD operational concept part of the BMDS test bed. If the early-warning radar at Beale AFB has not already been upgraded, new software and hardware will be installed that will enhance the radar's detection and discrimination capabilities as part of the extension of the GMD integrated flight test range. The target and interceptors may be launched in sets of two under some testing scenarios from either KLC or VAFB. Existing launch sites and test resources would continue to be used in enhanced test scenarios. Other reasonable alternatives identified during the scoping process would also be evaluated in the EIS. In addition, the EIS will analyze the No-Action Alternative, which would be a MDA decision not to enhance the capabilities of the existing test range but to continue testing within the existing range constraints to develop and improve the GMD system.

As with current testing, all missile intercepts from test activities would occur over the broad ocean area. The environmental impacts associated with these intercepts have been analyzed in previous NEPA documents. To the extent that enhanced testing would involve similar effects over the broad ocean area, those analyses will be incorporated by reference in the EIS.

The action alternatives could include construction of two interceptor launchers, one additional target launch pad and construction/alteration of launch support facilities at the KLC, construction of In-Flight Interceptor Communication System (IFICS) Data Terminals (IDT), military and commercial satellite communications (MIL/COMSATCOM) in the mid-Pacific and at KLC or VAFB, added range instrumentation (tracking and range safety radars) in the vicinity of sites, and use of either existing Battle Management Command and Control (BMC2) Facilities at RTS, or new BMC2 Facilities that may be developed at Fort Greely, AK and/or Shriever AFB or Cheyenne Mountain Complex, CO in the validation of the GMD operational concept part of the BMDS test bed.

The MDA will analyze the environmental issues associated with licenses or permits required to implement the proposed action at each of the potential extended test range sites. The Federal Aviation Administration (FAA) Office of Commercial Space Transportation (AST) will be a cooperating agency in this Environmental Impact Analysis Process because of their regulatory authority in licensing the Kodiak Launch Complex. The term of the current Launch Operator License (LOL) held by the Alaska Aerospace Development Corporation will expire in September 2003. Renewal or modification of the KLC LOL is considered a major federal action and will require environmental review of the proposed activities. The range of alternatives that the FAA may consider in its licensing decision may include but are not limited to (1) renewing the license in current status; (2) licensing with the addition of MDA's proposed activities in whole or part and (3) the No Action Alternative, not renewing the license. As a Cooperating Agency, the FAA may use the analysis contained in the Extended Test Range (ETR) EIS to support its licensing decision.

Scoping Process

This EIS will assess environmental issues associated with the proposed action; reasonable alternatives including the no-action alternative; foreseeable future actions; and cumulative effects. Scoping will be conducted to identify environmental, safety and occupational health issues to be addressed in the EIS. Public scoping meetings will be held as a part of the process. The scoping meetings will be held in Kodiak and Anchorage, Alaska and Lompoc, CA. Exact dates, locations and times of the scoping meetings will be advertised at a later date.

Public input and comments are solicited concerning the environmental safety and occupational health issues related to the proposed action. To ensure the program office will have sufficient time to fully consider public input on issues, written comments should be mailed to ensure receipt no later than thirty days after public release.

As a part of the decision-making process, the U.S. Army Space and Missile Defense Command (USASMDC) is managing the preparation of the EIS for flight-testing of GMD on behalf of the MDA. Comments concerning the public scoping process or the EIS process should be addressed to: U.S. Army Space and Missile Defense Command, ATTN: SMDC-EN-V (Mrs. Julia Hudson-Elliott), 106 Wynn Drive, Huntsville, AL 35805, or by e-mail at gmdetreis@smdc.army.mil.

Dated: March 26, 2002.
L.M. Bynum,
Alternate OSD Federal Register Liaison Officer, Department of Defense.

[FR Doc. 02-7629 Filed 3-26-02; 1:49 pm]

BILLING CODE 5001-08-P